FEDERAL COMMUNICATIONS COMMISSION

47 CFR Part 73

[MB Docket No. 10-118; RM-11603; RM-11631; DA 11-1209]

Radio Broadcasting Services; Gearhart, Madras, and Manzanita, OR

AGENCY: Federal Communications Commission.

ACTION: Final rule.

SUMMARY: The Audio Division, at the request of Black Hills Broadcasting, L.C., as modified pursuant to the counterproposal of Cumulus Licensing LLC (“Cumulus”), allots FM Channel 227A at Gearhart, Oregon. Channel 227A can be allotted at Gearhart, consistent with the minimum distance separation requirements of the Commission's rules, at coordinates 45-57-11 NL and 123-56-14 WL. In addition, the Audio Division substitutes Channel 248C3 for vacant Channel 228C3 at Manzanita, Oregon, and substitutes Channel *243C1 for vacant but applied for Channel *251C1 at Madras, Oregon. The reference coordinates for Channel 248C3 at Manzanita, Oregon, are 45-41-05 NL and 123-54-38 WL, and the reference coordinates for Channel *243C1 at Madras Oregon, are 44-50-02 NL and 120-45-55 WL. In addition, the Audio Division granted the application of Cumulus (File No. BMPH-20100805AKO) for a channel upgrade and change of community of interest for Station KNRQ-FM, from Channel 250C2 at Tualatin, Oregon, to Channel 250C1 at Aloha, Oregon. Finally, as proposed by Cumulus in its application, the Audio Division required Station KCYS(FM), Seaside, Oregon, to change from Channel 251A to Channel 243A. See Supplementary Information infra.

DATES: Effective September 9, 2011.

FOR FURTHER INFORMATION CONTACT: Andrew Rhodes or Deborah Dupont, Media Bureau, (202) 418-2180.

SUPPLEMENTARY INFORMATION: This is a synopsis of the Commission's Report and Order, MB Docket No. 10-118, adopted July 18, 2011, and released July 19, 2011. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC 20554, (800) 378-3160, or via the company's Web site, http://www.bcpiweb.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506 (c)(4). The Commission will send a copy of this Report and Order in a report to be sent to Congress and the Government Accountability Office pursuant to the Congressional Review Act, see U.S.C. 801(a)(1)(A).

List of Subjects in 47 CFR Part 73

Radio, Radio broadcasting.

Federal Communications Commission.
James D. Bradshaw,
Deputy Chief, Audio Division, Media Bureau.

Rule Changes

For the reasons discussed in the preamble, the Federal Communications Commission amends 47 CFR part 73 as follows:

PART 73—RADIO BROADCAST SERVICES

1. The authority citation for part 73 continues to read as follows:

Authority: 47 U.S.C. 154, 303, 334, 336, and 339.

§ 73.202 [Amended]

2. Section 73.202(b), the Table of FM Allotments under Oregon, is amended by adding Gearhart, Channel 227A, by removing Channel *251C1 at Madras, by adding Channel *243C1 at Madras, and by adding Manzanita, Channel 248C3.

[FR Doc. 2011-20340 Filed 8-9-11; 8:45 am]

BILLING CODE 6712-01-P